DEPARTMENT OF ENERGY

Federal Energy Regulatory Commission

[Docket No. CP12-526-000]

Leaf River Energy Center LLC; Notice of Application

Take notice that on September 24, 2012, Leaf River Energy Center LLC (Leaf River), 53 Riverside Avenue, Westport, Connecticut, 06880, filed an application in Docket No. CP12-526-000 pursuant to Section 7(c) of the Natural Gas Act (NGA) and Part 157 of the Commission's Regulations, for a certificate of public convenience and necessity to expand the certificated storage capacities of three of its four existing caverns at its Leaf River Energy Center facility in Smith County, Mississippi near the town of Taylorsville. The proposed expansion would increase the aggregate working gas capacity of the Leaf River Energy Center from the current 32.0 Bcf to 48.0 Bcf while the total aggregate gas storage capacity would increase from about 41.9 Bcf to 62.8 Bcf. The expansion would be accomplished by additional leaching of three existing salt dome caverns and would not require the construction of any new facilities. Leaf River also requests reaffirmation of its authority to charge market based rates for the expanded storage services. A more detailed description of the project is available in the application which is on file with the Commission and open for public inspection.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659. Any questions regarding this application should be directed to Laura L. Luce, Leaf River Energy Center LLC, 700 Milam, 53 Riverside Avenue, Westport, CT 06880, (203) 557-1000 (phone), lluce@ngsenergy.com or James F. Bowe, Jr., King & Spalding LLP, 1700 Pennsylvania Ave. NW., Suite 200, Washington, DC 20006, (202) 737-0500 (phone), jbowe@kslaw.com.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's web site under the “e-Filing” link. The Commission strongly encourages electronic filings.

Comment Date: October 25, 2012.

Dated: October 4, 2012.
Kimberly D. Bose,
Secretary.

[FR Doc. 2012-25207 Filed 10-12-12; 8:45 am]

BILLING CODE 6717-01-P